ENVIRONMENTAL PROTECTION AGENCY

[FRL-9971-29-OW]

Information Session; Implementation of the Water Infrastructure Finance and Innovation Act of 2014; Correction

AGENCY: Environmental Protection Agency (EPA).

ACTION: Notice; correction.

SUMMARY: EPA issued a notice in the Federal Register of November 14, 2017, concerning an information session planned on January 17, 2018 in Washington, DC from 9:00 a.m.-3:00 p.m. This document is being issued to correct an error of the time zone. The purpose the session is to provide prospective borrowers with a better understanding of the Water Infrastructure Finance and Innovation Act (WIFIA) program requirements and application process.

FOR FURTHER INFORMATION CONTACT: For further information about this notice, including registration information, contact Karen Fligger, EPA Headquarters, Office of Water, Office of Wastewater Management at tel.: 202-564-2992; or email: WIFIA@epa.gov.

SUPPLEMENTARY INFORMATION:

What does this correction do?

In the Federal Register of November 14, 2017 (82 FR 52722) (FRL-9970-62-OW), FR Doc. 2017-24639, on page 52722, in the third column, under the heading DATES, the time zone is corrected to read: ET.

Authority: Water Infrastructure Finance and Innovation Act, 33 U.S.C. 3901 et seq.

Dated: November 16, 2017.
Andrew D. Sawyers,
Director, Office of Wastewater Management.

[FR Doc. 2017-25935 Filed 11-30-17; 8:45 am]

BILLING CODE 6560-50-P